DEPARTMENT OF ENERGY

Federal Energy Regulatory Commission

[Docket No. ER05-719-001, et al.]

Entergy Services, Inc., et al.; Electric Rate and Corporate Filings

June 13, 2005.

The following filings have been made with the Commission. The filings are listed in ascending order within each docket classification.

1. Entergy Services, Inc.

[Docket No. ER05-719-001]

Take notice that on June 3, 2005, Entergy Services, Inc. (Entergy Services) submitted for filing on behalf of Entergy Arkansas, Inc. (EAI), certain corrected pages to EAI's 2005 Wholesale Formula Rate Update filed on March 23, 2005 in Docket No. ER05-719-000. Entergy Services states that the amended pages correct the distribution rate applicable to the City of North Little Rock, Arkansas.

Comment Date: 5 p.m. Eastern Time on June 24, 2005.

2. James S. Pignatelli

[Docket No. ID-3938-001]

Take notice that on June 8, 2005, James S. Pignatelli tendered for filing an application for authority to hold interlocking positions among ISO New England Inc., Tucson Electric Power Company, and UNS Electric, Inc.

Comment Date: 5 p.m. Eastern Time on June 22, 2005.

3. Orlando Utilities Commission

[Docket No. NJ05-3-000]

Take notice that on June 6, 2005, the Orlando Utilities Commission (OUC) filed revisions to its non-jurisdictional Large Generator Interconnection Procedures and Large Generator Interconnection Agreement to comply with Order No. 2003-B, Standardization of Generator Interconnedction Agreements and Procedures. OUC has requested an effective date of June 3, 2005.

Comment Date: 5 p.m. Eastern Time on June 27, 2005.

Standard Paragraph

Any person desiring to intervene or to protest in any of the above proceedings must file in accordance with Rules 211 and 214 of the Commission's Rules of Practice and Procedure (19 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to long on and submit the intervention or protests.

Persons unable to file electronically should submit an original and 14 copies of the intervention or protests to the Federal Energy Regulatory Commission, 888 First Street, NE., Washington, DC 20426.

The filings in the above proceedings are accessible in the Commission's eLibrary system by clicking on the appropriate link in the above list. They are also available to review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TYY, call (202) 502-8659.

Linda Mitry,
Deputy Secretary.

[FR Doc. E5-3183 Filed 6-17-05; 8:45 am]

BILLING CODE 6717-01-P